DEPARTMENT OF HEALTH AND HUMAN SERVICES

Health Resources and Services Administration

Advisory Committee on Heritable Disorders in Newborns and Children

AGENCY: Health Resources and Services Administration, HHS.

ACTION: Notice of Request for Nominations.

SUMMARY: The Health Resources and Services Administration (HRSA) is requesting nominations to fill two (2) vacancies on the Advisory Committee on Heritable Disorders in Newborns and Children. The Secretary of Health and Human Services (the Secretary, HHS) is soliciting nominations for individuals with expertise either in ethics or infectious diseases.

Authority: The Advisory Committee on Heritable Disorders in Newborns and Children (Committee) was established under section 1111 of the Public Health Service (PHS) Act, 42 U.S.C. 300b-10, as amended in the Newborn Screening Saves Lives Act of 2008 (Act). The Committee is governed by the provisions of the Federal Advisory Committee Act (FACA), as amended (5 U.S.C. App.), which sets forth standards for the formation and use of advisory committees.

DATE: The agency must receive nominations on or before May 18, 2009.

ADDRESSES: All nominations are to be submitted to Michele A. Lloyd-Puryear, M.D., PhD, Designated Federal Official and Executive Secretary, Advisory Committee on Heritable Disorders in Newborns and Children, at: Maternal and Child Health Bureau, Health Resources and Services Administration, Room 18A-19, Parklawn Building, 5600 Fishers Lane, Rockville, Maryland 20857. Nominations will not be accepted by e-mail or facsimile.

FOR FURTHER INFORMATION CONTACT: Ms. Alaina M. Harris, Genetic Services Branch, Maternal and Child Health Bureau, HRSA, at aharris@hrsa.gov or (301) 443-0721. A copy of the Committee Charter and list of the current membership can be obtained by contacting Ms. Harris or by accessing the Advisory Committee web site at http://www.hrsa.gov/heritabledisorderscommittee/.

SUPPLEMENTARY INFORMATION: Title XXVI of the Children's Health Act of 2000, “Screening for Heritable Disorders,” enacted sections 1109, 1110, and 1111 of the PHS Act. This Act established grant programs to improve the ability of States to provide newborn and child screening for heritable disorders (section 1109) and for evaluating the effectiveness of screening, counseling or health care services in reducing the morbidity and mortality caused by heritable disorders in newborns and children (section 1110).

On April 24, 2008, this Act was reauthorized and programs and activities for sections 1109, 1110, and 1111 were expanded by the “Newborn Screening Saves Lives Act of 2008” which also added sections 1112, 1113, 1114, 1115 and 1116. Section 1112 establishes a clearinghouse of newborn screening; section 1113 establishes a program for laboratory quality; section 1114 establishes an Interagency Coordinating Committee on Newborn and Child Screening (ICC); section 1115 establishes a national contingency plan for newborn screening; and section 1116 establishes the Hunter Kelly newborn screening research program.

The Secretary, HHS, was directed under section 1111 to establish an Advisory Committee on Heritable Disorders in Newborns and Children (Committee). The Committee provides to the Secretary advice about aspects of newborn and childhood screening and technical information for the development of policies and priorities that will enhance the ability of the State and local health agencies to provide for newborn and child screening, counseling and health care services for newborns and children having or at risk for heritable disorders. The Committee also makes recommendations, gives advice, or provides information to the Secretary about the grant program established under section 1109 of the Act. Activities carried out under sections 1112-1114 and 1116 are undertaken in consultation with the Committee.

The individuals selected by the Secretary for appointment to the Committee will be invited to serve for up to 4 years. A member may be reappointed to serve up to an additional 4 years at the request of the Secretary. Members may serve after the expiration of their term until their successors have taken office, but no longer than 120 days. Members who are not Federal employees will receive a stipend for each day they are engaged in the performance of their duties as members of the Committee. Members shall receive per diem and travel expenses as authorized by section 5 U.S.C. 5703 for persons employed intermittently in Government service. Members who are officers or employees of the United States Government shall not receive compensation for service on the Committee. Nominees will be invited to serve beginning from September 30, 2009.

To allow the Secretary to choose from a highly qualified list of potential candidates, more than one nomination is requested per open position. Nominations should be typewritten. The following information should be included in the package of material submitted for each individual being nominated for consideration: (1) A letter of nomination that clearly states the name and affiliation of the nominee, the basis for the nomination (i.e., specific attributes which qualify the nominee for service in this capacity), and a statement that the nominee is willing to serve as a member of the Committee and appears to have no conflict of interest that would preclude the Committee membership—potential candidates will be asked to provide detailed information concerning consultancies, research grants, or contracts to permit evaluation of possible sources of conflicts of interest; (2) the nominator's name, address, and daytime telephone number, and the home/or work address, telephone number, and email address of the individual being nominated; and (3) a current copy of the nominee's curriculum vitae. Please submit nominations no later than May 18, 2009.

The Department of Health and Human Services will ensure that the membership of the Committee reflects an equitable geographical and gender distribution, provided that the effectiveness of the Committee would not be impaired. Appointments shall be made without discrimination on the basis of age, ethnicity, gender, sexual orientation, and cultural, religious, or socioeconomic status.

Dated: March 23, 2009.
Alexandra Huttinger,
Director, Division of Policy Review and Coordination.

[FR Doc. E9-7425 Filed 4-1-09; 8:45 am]

BILLING CODE 4165-15-P